FEDERAL COMMUNICATIONS COMMISSION

47 CFR Part 73

[DA 07-1715; MB Docket No. 05-328; RM-10577; RM-11343; RM-11344]

Radio Broadcasting Service; Broken Bow and Millerton, OK

AGENCY: Federal Communications Commission.

ACTION: Final rule.

SUMMARY: The Audio Division: grants a counterproposal (RM-11343) filed by Charles Crawford to allot Channel 265C2 at Millerton, Oklahoma; dismisses a petition for rule making (RM-10577) per petitioner Jeraldine Anderson's request; and dismisses a counterproposal (RM-11344) per petitioner Katherine Pyeatt's request. Channel 265C2 can be allotted at Millerton, Oklahoma in compliance with the Commission's minimum distance separation requirements at 34-03-37 North Latitude and 94-54-04 West Longitude with a site restriction of 13.3 kilometers (8.2 miles) northeast of the community's reference.

DATES: Effective May 31, 2007.

ADDRESSES: Secretary, Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 05-328, adopted April 13, 2007, and released April 16, 2007. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oklahoma, is amended by adding Millerton, Channel 265C2.

Federal Communications Commission.
John A. Karousos,
Assistant Chief, Audio Division, Media Bureau.

[FR Doc. E7-8359 Filed 5-1-07; 8:45 am]

BILLING CODE 6712-01-P